DEPARTMENT OF JUSTICE

Notice of Lodging of Proposed Consent Decree Under the Comprehensive Environmental Response, Compensation, and Liability Act

On September 22, 2016, the Department of Justice lodged a proposed consent decree with the United States District Court for the Eastern District of Pennsylvania in the lawsuit entitled United States v. Tank Car Corporation of America, Civil Action No. 2:16-cv-05031-TON.

The United States filed this lawsuit under the Comprehensive Environmental Response, Compensation, and Liability Act (“CERCLA”). The United States' complaint seeks recovery of costs incurred and to be incurred by the Environmental Protection Agency in connection with the removal of hazardous substances at the Tank Car Corporation of America Site, a former railroad and tank car rehabilitation facility in Oreland, Montgomery County, Pennsylvania. The consent decree requires Tank Car Corporation of America to assign its rights to proceeds under its insurance policies to the United States. In return, the United States agrees not to sue Tank Car Corporation of America under sections 106 and 107 of CERCLA.

The publication of this notice opens a period for public comment on the consent decree. Comments should be addressed to the Assistant Attorney General, Environment and Natural Resources Division, and should refer to United States v. Tank Car Corporation of America, D.J. Ref. No. 90-11-3-11173. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $8.50 (25 cents per page reproduction cost) payable to the United States Treasury.

Robert Brook,
Assistant Section Chief, Environmental Enforcement Section, Environment and Natural Resources Division.

[FR Doc. 2016-23492 Filed 9-28-16; 8:45 am]

BILLING CODE 4410-15-P